DEPARTMENT OF THE INTERIOR

Bureau of Land Management

[WO-310-1310-01-PB-24 1A]

OMB Approval Number 1004-0034 Information Collection Submitted to the Office of Management and Budget Under the Paperwork Reduction Act

The Bureau of Land Management (BLM) has submitted the proposed collection of information listed below to the Office of Management and Budget for approval under the provisions of the Paperwork Reduction Act (44 U.S.C. 3501 et seq.). On December 22, 2000, BLM published a notice in the Federal Register (65 FR 8095) requesting comments on the collection. The comment period ended February 20, 2001. BLM received no comments from the public in response to that notice. You may obtain copies of the proposed collection of information and related explanatory material by contacting the BLM Information Collection Clearance Officer at the telephone number listed below.

OMB is required to respond to this request within 60 days but may respond after 30 days. For maximum consideration, your comments and suggestions on the requirement should be made within 30 days directly to the Office of Management and Budget, Interior Department Desk Officer (1004-0034), Office of Information and Regulatory Affairs, Washington, DC 20503. Please provide a copy of your comments to the BLM Information Collection Clearance Officer (WO-630) 1849 C St., NW, Mail Stop 401 LS, Washington, DC 20240.

Nature of comments: We specifically request your comments on the following:

1. Whether the collection of information is necessary for the proper functioning of the agency, including whether the information will have practical utility;

2. The accuracy of our estimates of the information collection burden, including the validity of the methodology and assumptions we use;

3. Ways to enhance the quality, utility, and clarity of the information collected; and

4. Ways to minimize the information collection burden on those who are to respond, including the use of appropriate automated, electronic, mechanical, or other technological collection techniques or other forms of information technology.

Title: Oil and Gas Lease Transfers by Assignment of Record Title or Operating Rights (Sublease) (43 CFR 3106, 3135, 3216).

OMB Approval number: 1004-0034.

Abstract: Respondents supply information on these forms (3000-3 and 3000-3a) to assign/transfer an interest in an oil and gas or geothermal lease.

Form numbers: 3000-3 and 3000-3a.

Frequency: On occasion.

Description of respondents: Individuals, small businesses, large corporations.

Estimate completion time: 30 minutes each form.

Annual response: 60,000.

Filing fee per response: $50.

Annual burden hours: 30,000.

Bureau clearance officer: Michael Schwartz (202) 452-5033.

Dated: August 3, 2001.
Michael H. Schwartz,
BLM Information Collection Clearance Officer.

[FR Doc. 01-21648 Filed 8-27-01; 8:45 am]

BILLING CODE 4310-84-P